DEPARTMENT OF TRANSPORTATION

Federal Railroad Administration

Petition for Waiver of Compliance

In accordance with part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

United Railroad Historical Society of New Jersey

[Docket Number FRA-2010-0079]

The United Railroad Historical Society of New Jersey (URHS) of Jackson, New Jersey, has petitioned for a permanent waiver of compliance for six passenger cars from the requirements of the Railroad Safety Glazing Standards, Title 49 CFR Part 223, which require certified glazing in all windows. The identifying mark, type of car, year built, number of windows and the estimated replacement glazing cost for each car are as follows:

• New York Central “Hickory Creek,” Observation/Lounge/Sleeper, 1948, 28, $35,000.

• New York Central No. 43, Tavern/Lounge, 1947, 25, $30,000.

• New York Central No. 37, Tavern/Lounge, 1947, 25, $30,000.

• Pennsylvania Railroad 1547, Coach/Lounge, 1949, 25, $28,000.

• URHS 326, Coach, 1950, 26, $30,000.

• URHS 329, Coach, 1953, 33, $33,000.

URHS has collected this historic equipment so as to operate it in conjunction with a future New Jersey Transportation Heritage Center. Part of this effort includes operating these cars on various short line railroads. For example, the New York Central “Hickory Creek” and the New York Central No. 43 periodically (10 trips/year) operate from New York, to various other destinations in the country. The other four cars: The New York Central No. 37, Pennsylvania Railroad 1547, URHS 326 and URHS 329 are operated on the Cape May Seashore Lines between Richland and Tuckahoe (15 miles); and between Cape May Court House and Cape May, New Jersey (13 miles), with a maximum speed of 30 mph. These cars were restored over the past 10 years, and all are equipped with laminated safety plate glazing.

URHS states that they are a non-profit 501(c)(3) organization and have little income so that it would be prohibitive for them to re-equip these cars with the FRA certified glazing per provisions of 49 CFR 223.15 Requirements for existing passenger cars. They are therefore seeking a waiver of compliance from provisions that require certified glazing for the passenger cars listed above, and presently located in Tuckahoe and Lebanon, New Jersey.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0079) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC on May 10, 2010.
Grady C. Cothen, Jr.,
Deputy Associate Administrator for Safety Standards and Program Development.

[FR Doc. 2010-11577 Filed 5-13-10; 8:45 am]

BILLING CODE 4910-06-P